DEPARTMENT OF TRANSPORTATION

Office of the Secretary

[Docket No. DOT-OST- 2023-0106]

Privacy Act of 1974; System of Records

AGENCY: Federal Aviation Administration and Office of the Departmental Chief Information Officer, Office of the Secretary of Transportation (DOT).

ACTION: Notice of a modified system of records.

SUMMARY: In accordance with the Privacy Act of 1974, the Department of Transportation (DOT) proposes to update and reissue a DOT Federal Aviation Administration (FAA) system of records titled, “DOT/FAA 801 Aviation Registration Records.” This Privacy Act System of Records Notice (hereafter “Notice”) is titled “DOT/FAA 801 Aviation Registration Records” and updated to reflect the discontinuation of the General Aviation (GA) ADS-B Rebate Program and the issuance of the Remote Identification of Unmanned Aircraft Final Rule. This Notice covers records about individuals who register manned and unmanned aircraft or submit a Notice of Identification (in the case of foreign-registered unmanned aircraft). It also covers records about individuals who apply for a Privacy International Civil Aviation Organization (ICAO) address or submit problem reports to the FAA to report issues or problems with ADS-B related services provided by the FAA.

DATES: Submit comments on or before September 8, 2023. The Department may publish an amended Systems of Records Notice considering any comments received. This modified system will be effective immediately upon publication. The routine uses will be effective September 8, 2023.

ADDRESSES: You may submit comments, identified by docket number DOT-OST-2023-0106—by any of the following methods:

• Federal e-Rulemaking Portal: http://www.regulations.gov. Follow the instructions for submitting comments.

• Mail: Docket Management Facility, U.S. Department of Transportation, 1200 New Jersey Ave. SE, West Building Ground Floor, Room W12-140, Washington, DC 20590-0001.

• Hand Delivery or Courier: West Building Ground Floor, Room W12-140, 1200 New Jersey Ave. SE, between 9 a.m. and 5 p.m. ET, Monday through Friday, except Federal holidays.

• Fax: (202) 493-2251. Instructions: You must include the agency name and docket number DOT-OST-2023-0106. All comments received will be posted without change to http://www.regulations.gov, including any personal information provided.

Docket: For access to the docket to read background documents or comments received, go to http://www.regulations.gov or to the street address listed above. Follow the online instructions for accessing the docket.

FOR FURTHER INFORMATION CONTACT: For questions, please contact: Karyn Gorman, Departmental Chief Privacy Officer, Privacy Office, Department of Transportation, Washington, DC 20590; privacy@dot.gov; or 202.527.3284.

SUPPLEMENTARY INFORMATION:

Notice Updates

This Notice update includes substantive changes to: system location, system manager, authorities, purpose, categories of individuals, categories of records, record source categories, routine uses of records maintained in the system, policies and practices for storage of records, policies and practices for retrieval of records, policies and practices for retention and disposal of records, and record access procedures; and non-substantive changes to: administrative, technical and physical safeguards, contesting record procedures, and notification procedures. Additional updates include editorial changes, to simplify and clarify language and reformatting the text of the previously published Notice to align with the requirements of the Office of Management and Budget Memoranda (OMB) A-108 and to ensure consistency with other Notices issued by the Department of Transportation.

Background

In accordance with the Privacy Act of 1974, 5 U.S.C. 552a, the Department of Transportation (DOT)/Federal Aviation Administration (FAA) proposes to update and reissue a DOT system of records titled, “DOT/FAA 801 Aviation Registration Records,” previously published at 81 FR 54187 (Aug. 15, 2016).

This system of records serves as the central and legal repository of all aircraft registration of manned and unmanned aircraft and Notices of Identification (for foreign-registered unmanned aircraft) submitted to the FAA. The information maintained in these registration and identification files includes identifying and contact information of individuals who register manned and unmanned aircraft or submit a Notice of Identification (in the case of foreign-registered unmanned aircraft) with the FAA.

This system of records also covers records related to the ADS-B Traffic Information Service—Broadcast (TIS-B) and Flight Information Service—Broadcast (FIS-B). These records are created when a pilot submits an ADS-B/TIS-B/FIS-B Problem Report to the FAA to report an issue or problem with any of the ADS-B related services provided by the FAA. The FAA uses the email address collected to communicate back to the reporting pilot about the issue or problem they reported.

Additionally, this system of records covers records related the Privacy ICAO Address Program. The Privacy ICAO Address Program allows aircraft operators to utilize an alternate aircraft ID and Privacy ICAO Address to mask their aircraft's identity while flying within U.S. domestic airspace. Aircraft operators may apply for a Privacy ICAO Address on the FAA website: https://adsbperformance.faa.gov/PIA/Application.aspx. ¹ Use of the alternate aircraft ID and Privacy ICAO Address limits the extent to which the aircraft can be identified by non-FAA parties receiving the ADS-B signal. The information collected and maintained includes identifying and contact information of individuals who have applied for a Privacy ICAO Address and the assigned Privacy ICAO Addresses, respectively.

¹ OMB Control Number: 2120-0779.

Finally, the previous Notice introduced the 14 CFR part 91, Automatic Dependent Surveillance Broadcast (ADS-B) Out Performance Final Rule which mandated that aircraft flying in certain controlled airspace be equipped with ADS-B Out technology. Aircraft equipped with ADS-B Out technology automatically transmit/broadcast an aircraft's GPS position, altitude, velocity and other information (e.g., aircraft registration number, which is linkable to an individual) to ground stations and to ADS-B In-equipped aircraft in the vicinity.

This update is due to the following changes:

(1) Discontinuation of the General Aviation (GA) ADS-B Rebate Program: To accelerate compliance with the 2010 ADS-B Out Performance Final Rule, the FAA offered a financial incentive to owners of general aviation aircraft who equipped their aircraft with ADS-B Out technology. This incentive was known as the GA ADS-B Rebate Program. The GA ADS-B Rebate Program terminated in 2021; consequently, the FAA no longer offers a financial incentive to owners of general aviation aircraft that equip their aircraft with ADS-B Out technology. As the previous Notice stated, and per the retention schedule that requires the FAA to maintain these records until at least 2027, this Notice will continue to cover the GA ADS-B Rebate Program payment records until they are destroyed. The ADS-B Compliance Monitor (ADS-B CM) Program, which included the GA ADS-B Rebate Program, was renamed Automatic Dependent Surveillance—Broadcast Performance Monitor (APM). That system no longer receives GA ADS-B Rebate Program data; however, it does receive Privacy Act data from the Privacy ICAO Address Program.

(2) Issuance of the Remote Identification of Unmanned Aircraft Final Rule: On January 15, 2021, the FAA published the Remote Identification of Unmanned Aircraft Final Rule, which requires unmanned aircraft possess remote identification capabilities. Remote identification is the capability of an unmanned aircraft in flight to broadcast over radio frequency spectrum certain identification, location, and performance information that people on the ground and other airspace users can receive. These message elements can be broadcast by technology built into the unmanned aircraft (“Standard Remote ID”) or by external Remote ID-equipped broadcast modules attached to the unmanned aircraft. Remote identification provides airspace awareness to the FAA, national security agencies, law enforcement entities, and other officials charged with ensuring public safety and the safety and efficiency of the airspace of the United States.²

² The FAA does not collect these message elements on a routine basis; therefore, this Notice does not cover their collection or maintenance. If these message elements were collected by the FAA or provided to FAA by law enforcement, they would be maintained in an investigative file and covered by the System of Records Notice associated with that file.

Relevant to this Notice, the Final Rule also requires owners of remote identification compliant unmanned aircraft to provide the standard remote identification unmanned aircraft's serial number or the remote identification broadcast module's serial number to the FAA during registration and imposes additional production and design requirements on manufacturers to ensure that broadcast equipment complies with the Final Rule. Additionally, the Final Rule requires that foreign-registered aircraft operators, who could in some instances be U.S. citizens, submit a Notice of Identification (NOI) prior to operating their foreign-registered aircraft in U.S. airspace. The NOI must include the aircraft operator's (and, if applicable, authorized representative's) name, address, telephone number, and email address; the country of registration, and; the unmanned aircraft's or the remote identification broadcast module's serial number.

The FAA is updating the SORN to make the following substantive changes:

1. System Location: This Notice updates the system location by removing the address for the ADS-B CM database and the GA ADS-B Rebate application database, and associated records, which were located at FAA William J. Hughes Technical Center, 101 Atlantic City International Airport, Egg Harbor Township, New Jersey 08405. This Notice updates the address for the Civil Aviation Registry System,³ which is located at: Civil Aviation Registry Applications, Enterprise Data Center (EDC) Airmen Records Building (ARB) at the Mike Monroney Aeronautical Center (MMAC), 6500 South MacArthur Boulevard, Oklahoma City, OK 73169-6901. The system location is also being updated to add new systems: (1) Civil Aviation Registration Electronic Services (CARES), Aircraft Registration Branch, AFB-710 Federal Aviation Administration, Mike Monroney Aeronautical Center, PO Box 25505, Oklahoma City, OK, 73125, Email: 9-AMC-AFS750-Aircraft@faa.gov located in the Amazon Web Services (AWS) East/West Government Cloud; and (2) FAADroneZone, UAS Integration Office, AUS-410, Federal Aviation Administration, 800 Independence Ave SW Washington, DC, 20591.

³ This system will eventually be replaced by the Civil Aviation Registry Electronic Services (CARES) system, which is located in the Amazon Web Services (AWS) East/West Government Cloud.

2. System Manager: This Notice is updated to include the system manager contact information for all systems this Notice covers.

3. Authorities: This Notice updates the authorities section to reflect the authorities for all systems this Notice covers.

4. Purpose: This Notice updates the purpose to remove reference to determining eligibility for and issuance of a rebate for equipage under the GA ADS-B Rebate Program. In addition, the purpose is being updated to include the Part 89 NOI requirements for the Remote Identification of Unmanned Aircraft Final Rule and to more explicitly describe the Privacy ICAO Address Program.

5. Categories of individuals: This Notice updates the categories of individuals to include: aircraft operators, authorized representatives, and aircraft dealers.

6. Categories of records: This Notice updates the categories of records to include: aircraft operator or authorized representative contact information; date of birth; NOI; Confirmation of Identification (COI) Number; and designated agent name, address, email, phone number and fax.

7. Record Source Categories: This Notice updates the record source categories by replacing “individuals” with aircraft owners, aircraft operators, authorized representatives, foreign-registered aircraft operators (who in some instances could be U.S. citizens), lien holders, lessees, and aircraft dealers, for greater transparency, and to reflect new record source categories associated with the new systems that are obtaining coverage under this Notice.

8. Routine Use: This Notice updates the routine uses section to add one new system-specific routine use. The new routine use will allow the FAA to disclose information to (a) government agencies, whether Federal, State, Tribal, local or foreign, when necessary or relevant to an investigation of a violation or potential violation of law, whether civil, criminal, or regulatory, that the agency is charged with investigating or enforcing; and, (b) to government agencies, whether Federal, State, or local responsible when necessary or relevant to threat detection in connection with critical infrastructure protection. This routine use is compatible to the purpose of this SORN. Specifically, this routine use is compatible with the system's oversight purpose, and its purpose for assisting other government agencies investigate or prosecute violations or potential violations of law. The routine use section is also being updated to remove the reference to credit card information, as the FAA no longer actively uses this information.

In accordance with OMB Circular A-108 recommendations, the routine uses section is also being updated to include the Department of Transportation's general routine uses applicable to this Notice as they were previously only incorporated by reference. Specifically, the Department is replacing the statement in DOT/FAA 801 that referenced the “Statement of General Routine Uses” with all of the general routine uses that apply to this system of records. This update does not substantially affect any of the existing routine uses for records maintained in this system.

9. Records Storage: Except for the hard copy canceled aircraft registration records that are being maintained as paper records, all records are electronically stored.

10. Records Retrieval: The retrievability of records is updated to add that Part 89 NOI records are retrievable by COI number, unmanned aircraft serial number, or operator's (or authorized representative's) name. The retrievability of GA ADS-B Rebate Program has been removed, as that program has been discontinued and the records are no longer being retrieved. The retrievability of aircraft descriptions has been removed, because retrieving by this method will not display a record specific to an individual. The retrievability of records is updated to add that TIS-B/FIS-B Problem reports are retrievable by aircraft registration number.

11. Retention and Disposal: The previous Notice referred to the FAA's submission to NARA of a recommended retention period for aircraft registration records submitted under 14 CFR part 48 (to cover small unmanned aircraft [sUAS]). This Notice updates the retention and disposal section to reflect that all aircraft registration records, not only those submitted under 14 CFR part 47, will be maintained as permanent records in accordance with existing NARA Schedule N1-237-04-03. Therefore, references to 14 CFR part 48 (sUAS) aircraft registrations have been removed from the retention and disposal section. The Notice also updates the retention and disposal section to reflect that records related GA ADS-B Rebate Program Payment records will be maintained until at least 2027 under NARA General Records Schedule 1.1 item 10. In addition, the Notice updates the retention and disposal section to reflect that records related to Part 89 NOI will be maintained for three years under NARA DAA-0237-2023-0007-0003. Finally, this Notice updates the retention and disposition section to reflect that records related to APM (which includes the Privacy ICAO Address program) will be maintained for three years under NARA DAA-0237-2020-0002-0001.

12. Records Access: The records access procedures are being updated to reflect that signatures on signed requests for records must either be notarized or accompanied by a statement made under penalty of perjury in compliance with 28 U.S.C. 1746.

The following non-substantive changes to the administrative, technical, and physical safeguards, contesting records procedures, and notification procedures have been made to improve the transparency and readability of the Notice:

13. Administrative, Technical and Physical Safeguards: This Notice updates the administrative, technical and physical safeguards to align with the requirements of OMB Memoranda A-108 and for consistency with other DOT/FAA SORNs.

14. Contesting Records: This Notice updates the procedures for contesting records to refer the reader to the record access procedures section rather than the “System Manager.”

15. Notifications: This Notice updates the notification procedures to refer the reader to the record access procedures section rather than the “System Manager.”

Privacy Act

The Privacy Act (5 U.S.C. 552a) governs the means by which the Federal Government collects, maintains, and uses personally identifiable information (PII) in a System of Records. A “System of Records” is a group of any records under the control of a Federal agency from which information about individuals is retrieved by name or other personal identifier. The Privacy Act requires each agency to publish in the Federal Register a System of Records Notice (SORN) identifying and describing each System of Records the agency maintains, including the purposes for which the agency uses PII in the system, the routine uses for which the agency discloses such information outside the agency, and how individuals to whom a Privacy Act record pertains can exercise their rights under the Privacy Act (e.g., to determine if the system contains information about them and to contest inaccurate information). In accordance with 5 U.S.C. 552a(r), DOT has provided a report of this system of records to the Office of Management and Budget and to Congress.

SYSTEM NAME AND NUMBER:

Federal Aviation Administration, Department of Transportation, DOT/FAA 801 Aviation Registration Records.

SECURITY CLASSIFICATION:

Sensitive, unclassified

SYSTEM LOCATION:

The system locations are as follow:

1. Civil Aviation Registry System: Civil Aviation Registry Applications, Enterprise Data Center (EDC) Airmen Records Building (ARB) at the Mike Monroney Aeronautical Center (MMAC), 6500 South MacArthur Boulevard, Oklahoma City, OK 73169-6901 and the Enterprise Architecture and Solutions Environment (EASE) Mainframe, which resides at the U.S. Department of Agriculture (USDA) National Information Technology Center (NITC) in Kansas City, Missouri.

2. Civil Aviation Registration Electronic Services (CARES): Aircraft Registration Branch, AFB-710 Federal Aviation Administration, Mike Monroney Aeronautical Center, PO Box 25505, Oklahoma City, OK, 73125, Email: 9-AMC-AFS750-Aircraft@faa.gov located in the Amazon Web Services (AWS) East/West Government Cloud.

3. FAADroneZone (including, but not limited to, Part 89 Notice of Identification): UAS Integration Office, AUS-410, Federal Aviation Administration, 800 Independence Ave. SW, Washington, DC, 20591.

4. APM (Privacy ICAO Address Program): Enterprise Data Center (EDC) at the William J. Hughes Technical, Center (WJHTC) in Atlantic City, New Jersey.

SYSTEM MANAGER:

1. Civil Aviation Registry System: Civil Aviation Registry Applications, Manager, Aircraft Registration Branch, AFB-710 Federal Aviation Administration, Mike Monroney Aeronautical Center, PO Box 25505, Oklahoma City, OK, 73125, Email: 9-AMC-AFS750-Aircraft@faa.gov.

2. Civil Aviation Registration Electronic Services: Manager, Aircraft Registration Branch, AFB-710 Federal Aviation Administration, Mike Monroney Aeronautical Center, PO Box 25505, Oklahoma City, OK, 73125, Email: 9-AMC-AFS750-Aircraft@faa.gov.

3. FAADroneZone: (including, but not limited to, Part 89 Notice of Identification): Manager, UAS Integration Office, AUS-410, Federal Aviation Administration, 800 Independence Ave. SW, Washington, DC 20591, Email: UAShelp@faa.gov.

3. APM (Privacy ICAO Address): Manager, FAA William J. Hughes Technical Center, En-Route & Oceanic Second Level Engineering Group, NAS System Manager—ADS-B Support Tools (SAPT & APM), AJM-2522, Email: 9-ACT-PMO-ATS-HELPDESK@faa.gov.

AUTHORITY FOR MAINTENANCE OF THE SYSTEM:

49 U.S.C. 106, 44102, 44103, 44104, 44105, 44106, 44107, 44110, 44111, 44809, and 44807; 14 CFR parts 45, 47-49, and § 89.130.

PURPOSE(S) OF THE SYSTEM:

To provide a register of United States civil aircraft to aid in the national defense and to support a safe and economically strong civil aviation system, and to meet treaty requirements under the Convention on International Civil Aviation, Annex 7. To safely integrate UA into the national airspace. To determine that aircraft are registered in accordance with the provisions of 49 U.S.C. 44103. To support FAA safety programs and agency management. To aid law enforcement and aircraft accident investigations. To serve as a repository of legal documents to determine legal ownership of aircraft. To provide aircraft owners and operators information about potential mechanical defects or unsafe conditions of their aircraft in the form of airworthiness directives. To aid in compliance with FAA standards including but not limited to agency enforcement regulations. To educate owners regarding safety requirements for operation. To receive and record payment of aircraft registration and recordation fees. To provide an alternate aircraft ID and ICAO aircraft address for aircraft operators, which limits the extent to which the aircraft can be identified by non-FAA parties capturing the ADS-B signal.

CATEGORIES OF INDIVIDUALS COVERED BY THE SYSTEM:

Aircraft owners, aircraft operators (or authorized representatives), aircraft dealers, lien holders, and lessees.

CATEGORIES OF RECORDS IN THE SYSTEM:

Aircraft registration numbers; aircraft manufacturer name, model, and serial numbers; aircraft operator, authorized representative, or registered owner name, address, email, telephone number, citizenship, and organization/company; designated agent name, address, email, phone number and fax; date of birth; legal records (e.g., evidence of ownership, divorce decree, and court order); registration information: (status: pending, valid, expired, canceled; type of ownership: individual, partnership, corporation, non-citizen corporation, Limited Liability Co., government, co-ownership; airworthiness: Type, status); aircraft registration documents; instruments affecting aircraft ownership: loan, lien, or lease interests; applications for airworthiness; major repair and alteration reports; NOI and COI; operator ID; ADS-B/TIS-B/FIS-B Problem Reports including pilot's name and information about the reported issue/problem, including location and aircraft avionics equipage from pilots. GA ADS-B Rebate Program Payment records will be maintained until at least 2027, the timeframe specified in NARA General Records Schedule 1.1, item 10.

RECORD SOURCE CATEGORIES:

Sources of records includes aircraft owners, aircraft operators (or their authorized representative), foreign-registered aircraft operators (who in some instances could be U.S. citizens), lien holders, lessees and aircraft dealers, manufacturers of aircraft, maintenance inspectors, mechanics, and FAA officials. All forms associated with this system and subject to the Paperwork Reduction Act have been approved by the Office of Management and Budget (OMB) under the referenced information collection requests: OMB control numbers 2120-0697 and 2120-0779.

ROUTINE USES OF RECORDS MAINTAINED IN THE SYSTEM, INCLUDING CATEGORIES OF USERS AND THE PURPOSES OF SUCH USES:

In addition to other disclosures generally permitted under 5 U.S.C. 552a(b) of the Privacy Act, all or a portion of the records or information contained in this system may be disclosed outside DOT as a routine use pursuant to 5 U.S.C. 552a(b)(3) as follows:

System Specific Routine Uses

1. To the public (including government entities, title companies, financial institutions, international organizations, and others), when permitted, information, including aircraft owner's name, address, United States Registration Number, aircraft type, legal documents related to title or financing of an aircraft and ADB-S summary reports, in order to facilitate aviation safety, security, and commerce. Emails and telephone numbers of small unmanned aircraft system (sUAS) owners registered under 14 CFR part 48 will not be disclosed to the Public pursuant to this Routine Use.

2. To law enforcement, when necessary and relevant to an FAA enforcement activity.

3. To government agencies, whether Federal, State, Tribal, local or foreign, information necessary or relevant to an investigation of a violation or potential violation of law, whether civil, criminal, or regulatory, that the agency is charged with investigating or enforcing; as well as, to government agencies, whether Federal, State, or local responsible for threat detection in connection with critical infrastructure protection.

Departmental Routine Uses

4. In the event that a system of records maintained by DOT to carry out its functions indicates a violation or potential violation of law, whether civil, criminal or regulatory in nature, and whether arising by general statute or particular program pursuant thereto, the relevant records in the system of records may be referred, as a routine use, to the appropriate agency, whether Federal, State, local or foreign, charged with the responsibility of investigating or prosecuting such violation or charged with enforcing or implementing the statute, or rule, regulation, or order issued pursuant thereto.

5. A record from this system of records may be disclosed, as a routine use, to a Federal, State, or local agency maintaining civil, criminal, or other relevant enforcement information or other pertinent information, such as current licenses, if necessary to obtain information relevant to a DOT decision concerning the hiring or retention of an employee, the issuance of a security clearance, the letting of a contract, or the issuance of a license, grant, or other benefit.

6. A record from this system of records may be disclosed, as a routine use, to a Federal agency, in response to its request, in connection with the hiring or retention of an employee, the issuance of a security clearance, the reporting of an investigation of an employee, the letting of a contract, or the issuance of a license, grant, or other benefit by the requesting agency, to the extent that the information is relevant and necessary to the requesting agency's decision on the matter.

7a. Routine Use for Disclosure for Use in Litigation. It shall be a routine use of the records in this system of records to disclose them to the Department of Justice or other Federal agency conducting litigation when (a) DOT, or any agency thereof, or (b) Any employee of DOT or any agency thereof (including a member of the Coast Guard), in his/her official capacity, or (c) Any employee of DOT or any agency thereof (including a member of the Coast Guard), in his/her individual capacity where the Department of Justice has agreed to represent the employee, or (d) The United States or any agency thereof, where DOT determines that litigation is likely to affect the United States, is a party to litigation or has an interest in such litigation, and the use of such records by the Department of Justice or other Federal agency conducting the litigation is deemed by DOT to be relevant and necessary in the litigation, provided, however, that in each case, DOT determines that disclosure of the records in the litigation is a use of the information contained in the records that is compatible with the purpose for which the records were collected.

7b. Routine Use for Agency Disclosure in Other Proceedings. It shall be a routine use of records in this system to disclose them in proceedings before any court or adjudicative or administrative body before which DOT or any agency thereof, appears, when— (a) DOT, or any agency thereof, or (b) Any employee of DOT or any agency thereof in his/her official capacity, or (c) Any employee of DOT or any agency thereof in his/her individual capacity where DOT has agreed to represent the employee, or (d) The United States or any agency thereof, where DOT determines that the proceeding is likely to affect the United States, is a party to the proceeding or has an interest in such proceeding, and DOT determines that use of such records is relevant and necessary in the proceeding provided, however, that in each case, DOT determines that disclosure of the records in the proceeding is a use of the information contained in the records that is compatible with the purpose for which the records were collected.

8. The information contained in this system of records will be disclosed to the Office of Management and Budget, OMB, in connection with the review of private relief legislation as set forth in OMB Circular No. A-19 at any stage of the legislative coordination and clearance process as set forth in that Circular.

9. Disclosure may be made to a Congressional office from the record of an individual in response to an inquiry from the Congressional office made at the request of that individual. In such cases, however, the Congressional office does not have greater rights to records than the individual. Thus, the disclosure may be withheld from delivery to the individual where the file contains investigative or actual information or other materials which are being used, or are expected to be used, to support prosecution or fines against the individual for violations of a statute, or of regulations of the Department based on statutory authority. No such limitations apply to records requested for Congressional oversight or legislative purposes; release is authorized under 49 CFR 10.35(9).

10. One or more records from a system of records may be disclosed routinely to the National Archives and Records Administration in records management inspections being conducted under the authority of 44 U.S.C. 2904 and 2906.

11. A record from this system of records may be disclosed as a routine use to the Coast Guard and to the Transportation Security Administration (TSA) if information from this system was shared with either agency when that agency was a component of the Department of Transportation before its transfer to the Department of Homeland Security and such disclosure is necessary to accomplish a DOT, TSA, or Coast Guard function related to this system of records.

12. DOT may make available to another agency or instrumentality of any government jurisdiction, including State and local governments, listings of names from any system of records in DOT for use in law enforcement activities, either civil or criminal, or to expose fraudulent claims, regardless of the stated purpose for the collection of the information in the system of records. These enforcement activities are generally referred to as matching programs because two lists of names are checked for match using automated assistance. This routine use is advisory in nature and does not offer unrestricted access to systems of records for such law enforcement and related antifraud activities. Each request will be considered on the basis of its purpose, merits, cost effectiveness and alternatives using Instructions on reporting computer matching programs to the Office of Management and Budget, OMB, Congress, and the public, published by the Director, OMB, dated September 20, 1989.

13. It shall be a routine use of the information in any DOT system of records to provide to the Attorney General of the United States, or his/her designee, information indicating that a person meets any of the disqualifications for receipt, possession, shipment, or transport of a firearm under the Brady Handgun Violence Prevention Act. In case of a dispute concerning the validity of the information provided by DOT to the Attorney General, or his/her designee, it shall be a routine use of the information in any DOT system of records to make any disclosures of such information to the National Background Information Check System, established by the Brady Handgun Violence Prevention Act, as may be necessary to resolve such dispute.

14a. To appropriate agencies, entities, and persons when (1) DOT suspects or has confirmed that there has been a breach of the system of records; (2) DOT has determined that as a result of the suspected or confirmed breach there is a risk of harm to individuals, DOT (including its information systems, programs, and operations), the Federal Government, or national security; and (3) the disclosure made to such agencies, entities, and persons is reasonably necessary to assist in connection with DOT's efforts to respond to the suspected or confirmed breach or to prevent, minimize, or remedy such harm.

14b. To another Federal agency or Federal entity, when DOT determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

15. DOT may disclose records from this system, as a routine use, to the Office of Government Information Services for the purpose of (a) resolving disputes between FOIA requesters and Federal agencies and (b) reviewing agencies' policies, procedures, and compliance in order to recommend policy changes to Congress and the President.

16. DOT may disclose records from this system, as a routine use, to contractors and their agents, experts, consultants, and others performing or working on a contract, service, cooperative agreement, or other assignment for DOT, when necessary to accomplish an agency function related to this system of records.

17. DOT may disclose records from this system, as a routine use, to an agency, organization, or individual for the purpose of performing audit or oversight operations related to this system of records, but only such records as are necessary and relevant to the audit or oversight activity. This routine use does not apply to intra-agency sharing authorized under Section (b)(1) of the Privacy Act.

18. DOT may disclose from this system, as a routine use, records consisting of, or relating to, terrorism information (6 U.S.C. 485(a)(5)), homeland security information (6 U.S.C. 482(f)(1)), or Law enforcement information (Guideline 2 Report attached to White House Memorandum, “Information Sharing Environment”, November 22, 2006) to a Federal, State, local, tribal, territorial, foreign government and/or multinational agency, either in response to its request or upon the initiative of the Component, for purposes of sharing such information as is necessary and relevant for the agencies to detect, prevent, disrupt, preempt, and mitigate the effects of terrorist activities against the territory, people, and interests of the United States of America, as contemplated by the Intelligence Reform and Terrorism Prevention Act of 2004 (Pub. L. 108-458) and Executive Order 13388 (October 25, 2005).

POLICIES AND PRACTICES FOR STORAGE OF RECORDS:

With the exception of older aircraft registration records that are being maintained as paper records and have not yet been converted into electronic form, all records are electronically stored. Backup copies of imaged records are stored at remote locations, including but not limited to the FAA's government cloud.

POLICIES AND PRACTICES FOR RETRIEVAL OF RECORDS:

Records of registered and cancelled aircraft in the digital image system may be retrieved by registration number, the manufacturer's name, model, and serial number, and by the name of the current registered owner. Hard copy canceled aircraft records may be retrieved using a former registration number and the manufacturer's name, model, and serial number. TIS-B/FIS- B records may be retrieved by the aircraft registration number. Part 89 NOI records may be retrieved by COI number, unmanned aircraft serial number, or operator's (or authorized representative's) name.

POLICIES AND PRACTICES FOR RETENTION AND DISPOSAL OF RECORDS:

Aircraft registration records will be maintained as permanent records in accordance with the National Archives and Records Administration (NARA) Schedule N1-237-04-03. In accordance with that schedule, paper copies of registration submissions are destroyed once the original is scanned into the system and the digital image is determined to be an adequate substitute for paper records. Copies of the Aircraft Registration system are transferred to NARA on an annual basis. The FAA will maintain GA ADS-B Rebate Program payment records for at least six years after the program has ended (until at least 2027), the timeframe specified in NARA General Records Schedule 1.1, item 10. For records related to Part 89 NOI, the FAA has submitted a new records retention and disposition schedule DAA-0237-2023-0007-0003 to NARA and is proposing to maintain the records for 3 years after the COI has either expired or been cancelled. The FAA will retain Part 89 NOI records until it receives approval of the record disposition authority from NARA. The FAA will retain APM records (which includes the Privacy ICAO Address program) for three years, in accordance with NARA Schedule DAA-0237-2020-0002-0001.

ADMINISTRATIVE, TECHNICAL, AND PHYSICAL SAFEGUARDS:

Records in this system are safeguarded in accordance with applicable rules and policies, including all applicable DOT automated systems security and access policies. Strict controls have been imposed to minimize the risk of compromising the information that is being stored. Access to the computer system containing the records in this system is limited to individuals who have a need to know the information for the performance of their official duties and who have clearances or permissions. Access to records in this system are limited to those with appropriate security credentials, an authorized purpose, and need-to-know. The FAA deploys role-based access controls in addition to other protection measures reviewed and certified by the FAA's cybersecurity professionals to maintain the confidentiality, integrity, and availability requirements of the system.

RECORD ACCESS PROCEDURES:

Individuals seeking notification of whether this system of records contains information about them may contact the System Managers at the address provided in the section “System Manager.” When seeking records about yourself from this system of records or any other Departmental system of records your request must conform to the Privacy Act regulations set forth in 49 CFR part 10. You must sign your request, and your signature must either be notarized or submitted under 28 U.S.C. 1746, a law that permits statements to be made under penalty of perjury as a substitute for notarization. If your request is seeking records pertaining to another living individual, you must include a statement from that individual certifying his/her agreement for you to access his/her records.

CONTESTING RECORD PROCEDURES:

See “Records Access Procedures” above.

NOTIFICATION PROCEDURES:

See “Records Access Procedures” above.

EXEMPTIONS PROMULGATED FOR THE SYSTEM:

None.

HISTORY:

A full notice of this system of records, DOT/FAA 801, Aviation Registration Records, was published in the Federal Register on August 15, 2016 (81 FR 54187), DOT/FAA 801, Aircraft Registration Records, December 17, 2015 (80 FR 77697) and DOT/FAA 801, Aircraft Registration System, April 11, 2000 (65 FR 19518).

Issued in Washington, DC.
Karyn Gorman,
Chief Privacy Officer.

[FR Doc. 2023-17073 Filed 8-8-23; 8:45 am]

BILLING CODE 4910-9X-P